DEPARTMENT OF HEALTH AND HUMAN SERVICES

National Institutes of Health

National Cancer Institute; Notice of Meeting

Pursuant to section 10(d) of the Federal Advisory Committee Act, as amended (5 U.S.C. Appendix 2), notice is hereby given of the meeting of the Nation Cancer Advisory Board.

The meeting will be open to the public as indicated below, with attendance limited to space available. Individuals who plan to attend and need special assistance, such as sign language interpretation or other reasonable accommodations, should notify the Contact Person listed below in advance of the meeting.

A portion of the meeting will be closed to the public in accordance with the provisions set forth in sections 552b(c)(4), and 552b(6), Title 5 U.S.C., as amended. The grant applications and the discussions could disclose confidential trade secrets or commercial property such as patentable material, and personal information concerning individuals associated with the grant applications, the disclosure of which wouldconstitute a clearly unwarranted invasion of personal privacy.

Name of Committee: National Cancer Advisory Board.

Dates: February 12-14, 2001.

Name of Committee: National Cancer Advisory Board Ad Hoc Subcommittee on Communications.

Open: February 12, 7 p.m. to 8:30 p.m.

Agenda: To discuss activities related to the Ad Hoc Subcommittee on Communications.

Place: Bethesda Hyatt Regency, One Bethesda Metro Center, Bethesda, MD 20814. (301) 657-1234.

Contact Person: Susan Sieber, PhD., Executive Secretary to the Ad Hoc Subcommittee on Communications, Director, Office of Communications, National Cancer Institute, National Institutes of Health, 31 Center Drive, Building 31, Room 11A48, Bethesda, MD 20892, (301) 496-5946.

Name of Committee: National Cancer Advisory Board.

Open: February 13, 9 a.m. to 12:05 p.m.

Agenda: Program reports and presentations; Business of the board. For detailed agenda: See NCI Homepage/Advisory Board and Groups http://deainfo.nci.nih.gov/ADVISORY/boards.htm. Tentative agenda available 10 working days prior to meetings; Final agenda available 5 working days prior to meetings.

Name of Committee: National Cancer Advisory Board Subcommittee on Planning and Budget.

Open: February 13, 12:15 p.m. to 1:20 p.m.

Agenda: To discuss activities related to the Subcommittee on Planning and Budget.

Contact Person: Cherie Nichols, M.B.A., Executive Secretary to the Subcommittee on Planning and Budget, Director, Office of Science Policy, National Cancer Institute, National Institutes of Health, 9000 Rockville Pike, Building 31, Room 11A03, Bethesda, MD 20892, (301) 496-5515.

Name of Committee: National Cancer Advisory Board.

Open: February 13, 1:30 p.m. to 3:45 p.m.

Agenda: Program reports and presentations; Business of the board. For detailed agenda: See NCI Homepage/Advisory Board and Groups http://deainfo.nci.nih.gov/ADVISORY/boards.htm. Tentative agenda available 10 working days prior to meetings; Final agenda available 5 working days prior to meetings.

Closed: February 13, 4 p.m. to Recess.

Agenda: Review of grant applications; Discussion of confidential personnel issues.

Open: February 14, 8:45 a.m. to Adjournment.

Agenda: Program reports and presentations; Business of the board. For detailed agenda: See NCI Homepage/Advisory Board and Groups http://deainfo.nci.nih.gov/ADVISORY/boards.htm. Tentative agenda available 10 working days prior to meetings; Final agenda available 5 working days prior to meetings.

Place: National Cancer Institute, Building 31, C Wing, 6th Floor, Conference Room 10, National Institutes of Health, 9000 Rockville Pike, Bethesda, MD 20892.

Contact Person: Dr. Marvin R. Kalt, Executive Secretary, National Cancer Institute, National Institutes of Health, 6116 Executive Boulevard, 8th Floor, Room 8001, Bethesda, MD 20892-8327, (301) 496-5147.

This meeting is being published less than 15 days prior to the meeting due to scheduling conflicts.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support, 93.398, Cancer Research Manpower; 93.399, Cancer Control, National Institutes of Health, HHS)
Dated: January 30, 2001.
LaVerne Y. Stringfield,
Director, Office of Federal Advisory Committee Policy.

[FR Doc. 01-3464 Filed 2-9-01; 8:45 am]

BILLING CODE 4140-01-M